DEPARTMENT OF COMMERCE

National Institute of Standards and Technology

Open Meeting of the Commission on Enhancing National Cybersecurity

AGENCY: National Institute of Standards and Technology, Commerce.

ACTION: Notice.

SUMMARY: The Commission on Enhancing National Cybersecurity will meet Monday, November 21, 2016 from 8:00 a.m. until 10:00 a.m. Eastern Time as a virtual meeting with dial-in audio conferencing participation only. The primary purpose of the meeting is to discuss the challenges and opportunities for organizations and consumers in securing the digital economy. In particular, the meeting will address: (1) Approval of public meeting minutes; (2) briefing and readout of working group meeting minutes; and (3) public comment.

The meeting will support detailed recommendations to strengthen cybersecurity in both the public and private sectors while protecting privacy, ensuring public safety and economic and national security, fostering discovery and development of new technical solutions, and bolstering partnerships between Federal, State, local, tribal and territorial governments and the private sector in the development, promotion, and use of cybersecurity technologies, policies, and best practices. Interested members of the public will be able to participate in the meeting from remote locations by calling into a central phone number.

DATES: The meeting will be held on Monday, November 21, 2016 from 8:00 a.m. until 10:00 a.m. Eastern Time.

ADDRESSES: The meeting will be a virtual meeting with dial-in audio participation only. The meeting is open to the public and interested parties are requested to contact Sara Kerman at the contact information indicated in the FOR FURTHER INFORMATION CONTACT section of this notice in advance of the meeting for dial-in instructions.

Written comments may be submitted by mail to Commission Executive Director, National Institute of Standards and Technology, 100 Bureau Drive, Mail Stop 2000, Gaithersburg, Maryland 20899-8900, or by email to cybercommission@nist.gov. Please use subject line “Open Meeting of the Commission on Enhancing National Cybersecurity”.

FOR FURTHER INFORMATION CONTACT: Sara Kerman, Information Technology Laboratory, National Institute of Standards and Technology, 100 Bureau Drive, Stop 2000, Gaithersburg, MD 20899-8900, telephone: 301-975-4634, or by email at: eo-commission@nist.gov. Please use subject line “Open Meeting of the Commission on Enhancing National Cybersecurity”.

SUPPLEMENTARY INFORMATION: Pursuant to the Federal Advisory Committee Act, as amended, 5 U.S.C. App., notice is hereby given that the Commission on Enhancing National Cybersecurity (“the Commission”) will meet Monday, November 21, 2016 from 8:00 a.m. until 10:00 a.m. Eastern Time. All sessions will be open to the public. The Commission is authorized by Executive Order 13718, Commission on Enhancing National Cybersecurity.¹ The Commission was established by the President and will make detailed recommendations to strengthen cybersecurity in both the public and private sectors while protecting privacy, ensuring public safety and economic and national security, fostering discovery and development of new technical solutions, and bolstering partnerships between Federal, State, local, tribal and territorial governments and the private sector in the development, promotion, and use of cybersecurity technologies, policies, and best practices.

¹ https://www.federalregister.gov/articles/2016/02/12/2016-03038/commission-on-enhancing-national-cybersecurity.

The agenda is expected to include the following items:

—Introductions

—Approval of public meeting minutes

—Briefing and readout of working group meeting minutes

—Public comment

—Conclusion

Note that agenda items may change without notice. The final agenda will be posted on http://www.nist.gov/cybercommission. Attendees are asked to self-identify when they dial-in and lines will be available on a first-come, first-served basis.

Public Participation: Individuals and representatives of organizations who would like to offer comments and suggestions related to the Committee's affairs are invited to request an opportunity to speak and detailed instructions on how to join the call from a remote location in order to participate by submitting their request to Sara Kerman at the contact information indicated in the FOR FURTHER INFORMATION CONTACT section of this notice, no later than 5:00 p.m. Eastern Time on November 17, 2016.

Approximately 15 minutes will be reserved from 9:45 a.m. until 10:00 a.m. Eastern Time for public comments; speaking times will be assigned on a first-come, first-served basis. The amount of time per speaker will be determined by the number of requests received, but is likely to be about three minutes each. Questions from the public will not be considered during this period. Speakers who wish to expand upon their oral statements, those who had wished to speak but could not be accommodated, and those who were unable to participate are invited to submit written statements by mail to Commission Executive Director, National Institute of Standards and Technology, 100 Bureau Drive, Mail Stop 2000, Gaithersburg, Maryland 20899-8900, or by email to cybercommission@nist.gov. Please use subject line “Open Meeting of the Commission on Enhancing National Cybersecurity.”

All participants of the meeting are required to pre-register. Anyone wishing to participate must register by 5:00 p.m. Eastern Time, November 17, 2016, in order to be included. Please submit your full name, email address, and phone number Sara Kerman, National Institute of Standards and Technology, 100 Bureau Drive, Mail Stop 2000, Gaithersburg, Maryland 20899 or 301-975-4634, or electronically by email to eo-commission@nist.gov. After pre-registering, participants will be provided with detailed instructions on how to join the call from a remote location in order to participate.

Pursuant to 41 CFR 102-3.150(b), this Federal Register notice for this meeting is being published fewer than 15 calendar days prior to the meeting as exceptional circumstances exist. It is imperative that the meeting be held on November 21, 2016 to accommodate the scheduling priorities of the key participants, who must maintain a strict schedule of meetings in order to complete the Commission's report by December 1, 2016, as required by Executive Order 13718 § 3(e) (February 9, 2016). Notice of the meeting is also posted on the National Institute of Standards and Technology's Web site at http://www.nist.gov/cybercommission.

Kevin Kimball,
Chief of Staff.

[FR Doc. 2016-27258 Filed 11-10-16; 8:45 am]

BILLING CODE 3510-13-P